DEPARTMENT OF JUSTICE

Antitrust Division

Notice Pursuant to the National Cooperative Research and Production Act of 1993—Cooperative Research Group on Cracking of Duplex Stainless Steel

Notice is hereby given that, on February 16, 2017, pursuant to Section 6(a) of the National Cooperative Research and Production Act of 1993, 15 U.S.C. 4301 et seq. (“the Act”), Southwest Research Institute—Cooperative Research Group on Cracking of Duplex Stainless Steel (“DSS-CRG”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Chevron U.S.A., Inc., Richmond, CA; Fluor Enterprises, Inc., Aliso Viejo, CA; Marathon Petroleum Company LP, Findlay, OH; and Shell Global Solutions (US) Inc., Houston, TX.

The general areas of DSS-CRG's planned activity are identification of failure mechanisms and major contributing factors for cracking in REACs and quantification of their effects; establishment of safe integrity operational window (IOW) for avoidance of cracking-related failures in REACs; development of guidelines and tools for risk based inspection directed towards assessment of cracking in REACs currently in service; development of guidelines for manufacturing of REACs resistant to cracking; identification of NDE techniques for determining ferrite content in the weld metal and HAZ of REAC welds; and evaluation of NDE techniques for crack detection in REAC welds.

Patricia A. Brink,
Director of Civil Enforcement, Antitrust Division.

[FR Doc. 2017-05257 Filed 3-15-17; 8:45 am]

BILLING CODE P